ELECTION ASSISTANCE COMMISSION

Sunshine Act Notices

AGENCY: Election Assistance Commission.

Date and Time: Monday, June 28, 2004, at 12 Noon.

Place: Sheraton Suites Houston, 2400 West Loop South, Houston, TX 77027.

Name: U.S. Election Assistance Commission Board of Advisors.

Status: The board meeting is open to the public depending on available space.

Purpose: Organizational plans for the newly established U.S. Election Assistance Commission (EAC) Board of Advisors. As required by the Help America Vote Act of 2002, the Board will present its views on issues in the administration of Federal elections, and formulate recommendations to the EAC.

Under 41 CFR 102-3.150(b), the EAC finds that exceptional circumstances require less than fifteen days notice of this meeting. Specifically, given the pendency of the general election, and given public comments and testimony suggesting heightened urgency with regard to the issues on which the Board of Advisors will advise the EAC, the EAC concludes that the impact on the timely accomplishment of the agency's mission and the financial implications that would result from delaying the meeting justify shortened notice in this case.

Any member of the public may file a written statement with the Board before, during, or after the meeting. To the extent that time permits, the Board may allow public presentation or oral statements at the meeting.

FOR FURTHER INFORMATION CONTACT: Bryan Whitener, Telephone: (2202) 566-3100.

Gracia M. Hillman,
Vice-Chair, Election Assistance Commission.

[FR Doc. 04-13796 Filed 6-15-04; 1:21 pm]

BILLING CODE 6820-MP-M